INTER-AMERICAN FOUNDATION BOARD MEETING

Sunshine Act Meetings

TIME AND DATE: September 28, 2009, 9 a.m.-1 p.m.

PLACE: 901 N. Stuart Street, Tenth Floor, Arlington, Virginia 22203.

STATUS: Open to the public.

MATTERS TO BE CONSIDERED:

• Approval of the Minutes of the April 27, 2009, Meeting of the Board of Directors

• Advisory Council Report and Recommendations

• President's Report

• Congressional Affairs

• IAF Program Activities

• RedEAmerica

• Operations

• Schedule of Upcoming Events

PORTIONS TO BE OPEN TO THE PUBLIC:

• Approval of the Minutes of the April 27, 2009, Meeting of the Board of Directors

• Advisory Council Report and Recommendations

• President's Report

• Congressional Affairs

• IAF Program Activities

• RedEAmerica

• Operations

• Schedule of Upcoming Events

CONTACT PERSON FOR MORE INFORMATION:

Dated: September 8, 2009.
Jennifer Hodges Reynolds,
General Counsel, (703) 306-4301.

[FR Doc. E9-22393 Filed 9-14-09; 4:15 pm]

BILLING CODE 7025-01-P